LEGAL SERVICES CORPORATION

Request for Comments—LSC Budget Request for FY 2009

AGENCY: Legal Services Corporation.

ACTION: Request for Comments—LSC Budget Request for FY 2009.

SUMMARY: The Legal Services Corporation is beginning the process of developing its FY 2009 budget request to Congress and is soliciting suggestions as to what the request should be.

DATES: Written comments must be received by August 31, 2007.

ADDRESSES: Written comments may be submitted by mail, fax or e-mail to Charles Jeffress, Chief Administrative Officer, Legal Services Corporation, 3333 K St., NW., Washington, DC 20007; 202-295-1630 (phone); 202-337-6386 (fax); cjeffress@lsc.gov.

FOR FURTHER INFORMATION CONTACT: Charles Jeffress, Chief Administrative Officer, Legal Services Corporation, 3333 K St., NW., Washington, DC 20007; 202-295-1630 (phone); 202-337-6386 (fax); cjeffress@lsc.gov.

SUPPLEMENTARY INFORMATION: The Legal Services Corporation's (LSC) mission is to promote equal access to justice in our Nation and to provide for high-quality civil legal assistance to low income persons. LSC submits an annual budget request directly to Congress and receives an annual direct appropriation to carry out its mission. For the current fiscal year (FY 2007), LSC received an appropriation of $348,578,000, of which $330,760,500 was for basic field programs, $2,970,000 was for the Office of Inspector General, $12,743,000 was for management and administration; and $2,104,500 was for technology initiative grants. Revised Continuing Appropriations Resolution, 2007, Public Law 110-5, 20918, 121 Stat. 8, 44 (2007). (The FY 2008 budget request has already been submitted to Congress and LSC is awaiting Congressional action.)

As part of its annual budget and appropriation process, LSC notifies the Office of Management and Budget (OMB) as to what the LSC budget request to Congress will be for the next fiscal year. OMB has requested this information by September 10 of this year. Accordingly, LSC is currently in the process of formulating its FY 2009 budget request.

LSC invites public comment on what its FY 2009 budget request should be. Interested parties may submit comments to LSC by September 1, 2007. More information about LSC can be found at LSC's Web site: http://www.lsc.gov.

Dated: August 7, 2007.
Victor M. Fortuno,
Vice President and General Counsel.

[FR Doc. E7-15661 Filed 8-9-07; 8:45 am]

BILLING CODE 7050-01-P